DEPARTMENT OF DEFENSE

Defense Representative Guam, Commonwealth of the Northern Mariana Islands, Federated States of Micronesia and Republic of Palau; Notice of Availability of Record of Decision for the Mariana Islands Range Complex

AGENCY: Department of Defense Representative Guam, Commonwealth of the Northern Mariana Islands, Federated States of Micronesia and Republic of Palau.

ACTION: Notice.

SUMMARY: After carefully weighing the operational and environmental consequences of the Proposed Action, the Department of Defense (DoD) Representative Guam, Commonwealth of the Northern Mariana Islands (CNMI), Federated States of Micronesia and Republic of Palau (DoD REP), announces his decision to support and conduct current, emerging, and future military training and Research, Development, Test, and Evaluation (RDT&E) activities in the Mariana Islands Range Complex (MIRC), while enhancing training resources through investment in the MIRC. These training and RDT&E activities are conducted by the Department of the Navy (DoN), the United States Marine Corps, the United States Air Force, Guam National Guard, the United States Coast Guard and other users based and deployed in the Western Pacific. The DoN is the Executive Agent for management of the MIRC.

The proposed action does not involve extensive changes to MIRC facilities, operations, training, or RDT&E capacities. Rather, the proposed action would result in relatively small-scale but critical enhancements to the MIRC that are necessary if the Military Services are to maintain a state of military readiness commensurate with their national defense mission. In its decision, the DoD REP considered applicable laws, regulations and executive orders, including an analysis of the effects of its actions outside the U.S. or its territories under Executive Order (EO) 12114, “Environmental Effects Abroad of Major Federal Actions”.

The proposed action will be accomplished as set out in Alternative 1, described in the Final Environmental Impact Statement/Overseas Environmental Impact Statement (EIS/OEIS) as the preferred alternative. Implementation of the preferred alternative could begin immediately.

SUPPLEMENTARY INFORMATION: The Record of Decision (ROD) has been distributed to all those individuals who requested a copy of the Final EIS/OEIS and agencies and organizations that received a copy of the Final EIS/OEIS. The complete text of the ROD is available for public viewing on the project Web site at http://www.MarianasRangeComplexEIS.com, along with copies of the Final EIS/OEIS and supporting documents. Single copies of the ROD will be made available upon request by contacting: Mariana Islands Range Complex Environmental Impact Statement/Overseas Environmental Impact Statement (EIS/OEIS), Project Manager, Code EV21, Naval Facilities Engineering Command, Pacific, 258 Makalapa Drive, Suite 100, Pearl Harbor, HI 96869-3134, telephone number 808-472-1402.

D.J. Werner,
Lieutenant Commander, Judge Advocate General's Corps, U.S. Navy, Federal Register Liaison Officer.

[FR Doc. 2010-18455 Filed 7-27-10; 8:45 am]

BILLING CODE 3810-FF-P